DEPARTMENT OF AGRICULTURE

Food Safety and Inspection Service

9 CFR Ch. III

[Docket No. 02-005N]

Regulatory Flexibility Act; Plan for Regulations Reviewed Under Section 610 Requirements

AGENCY: Food Safety and Inspection Service, USDA.

ACTION: Schedule of regulations to be reviewed under section 610 requirements of the Regulatory Flexibility Act.

SUMMARY: The Food Safety and Inspection Service (FSIS) is publishing a scheduling plan for regulations that will be reviewed based on the Regulatory Flexibility Act's (RFA) Section 610 provisions. These provisions provide that all Federal agencies are to review existing regulations that have a significant economic impact on a substantial number of small entities to determine whether these rules should be withdrawn, modified, or left intact as a means to minimize the impact imposed. As such, FSIS has identified regulations that meet this threshold requirement for mandatory review. Accordingly, these rules will be reviewed within the timeframes indicated below.

FOR FURTHER INFORMATION CONTACT: Daniel Engeljohn, Ph.D., Director, Regulations and Directives Development Staff, FSIS, USDA, 300 12th Street, SW., Room 112, Washington, DC 20250-3700, (202) 720-5627.

SUPPLEMENTARY INFORMATION:

Background

Section 610 of the Regulatory Flexibility Act instructs all federal agencies to review any regulations that have been identified as having a significant economic impact on a substantial number of small entities as a means to determine whether the associated impact can be minimized by considering the following factors: (1) The continued need for the rule; (2) the nature of complaints or comments received concerning the rule from the public; (3) the complexity of the rule; (4) the extent to which the rule overlaps, duplicates or conflicts with other Federal rules, and to the extent feasible, with State and local governmental rules; and (5) the length of time since the rule has been initially evaluated or the degree to which technology, economic conditions, or other factors have changed in the area affected by the rule. In accordance with the aforementioned provisions, the mandatory reviews must be conducted and completed within ten years succeeding the rule's publication date.

Accordingly, FSIS has prepared a plan for reviewing its rules. In addition, a brief description of the regulation, which includes the purpose for its promulgation and the legal basis, scheduled to be reviewed during the corresponding year identified below will be included in FSIS' regulatory agenda that is printed in the Federal Register as part of the Unified Regulatory Agenda.

Food Safety and Inspection Service's Regulations Identified for the Regulatory Flexibility Act's Section 610 Review
CFR part(s) affected and legal authority | Docket No. | Regulation title | Publication citation and date | Review date
9 CFR Pts. 317, 318, 319; 21 U.S.C. 607, 621; 7 CFR 2.18, 2.53 | 81-016F | Standards and Labeling Requirements for Mechanically Separated (Species) and Products in Which It is Used | 47 FR 28214; June 29, 1982 | 2002
9 CFR Pts. 317, 320, 381; 21 U.S.C. 451-470, 601-695; 7 U.S.C. 450; 7 CFR 2.18, 2.53 | 91-006F | Nutrition Labeling of Meat and Poultry Products | 58 FR 632; January 6, 1993 | 2003
9 CFR Pts. 317, 381; 21 U.S.C. 451-470, 601-695; 7 U.S.C. 450; 7 CFR 2.18, 2.53 | 91-006F-HLTH | Nutrition Labeling; Use of “Healthy” and Similar Terms on Meat and Poultry Product Labeling | 59 FR 24220; May 10, 1994 | 2004
9 CFR Pts. 304, 308, 310, 320, 327, 381, 416, 417; 21 U.S.C. 451-470, 601-695; 7 U.S.C. 138f, 450, 1901-1906; 7 CFR 2.18, 2.53 | 93-016F | Pathogen Reduction; Hazard Analysis and Critical Control Point (HACCP) Systems | 61 FR 38806; July 25, 1996 | 2006
9 CFR Pts. 381, 424; 21 U.S.C. 451-470; 7 U.S.C. 138f, 450; 7 CFR 2.18, 2.53 | 97-076F | Irradiation of Meat Food Products | 64 FR 72150; December 29, 1999 | 2009
9 CFR Pts. 381, 441; 21 U.S.C. 451-470, 601-695; 7 U.S.C. 138f, 450, 1901-1906; 7 CFR 2.18, 2.53 | 97-054F | Retained Water in Raw Meat and Poultry Products; Poultry Chilling Requirements | 66 FR 1750; January 9, 2001 | 2011

Done at Washington, DC, on: March 28, 2002.
Margaret O'K. Glavin,
Acting Administrator.

[FR Doc. 02-7917 Filed 4-1-02; 8:45 am]

BILLING CODE 3410-DM-P